DEPARTMENT OF TRANSPORTATION

Pipeline and Hazardous Materials Safety Administration

Office of Hazardous Materials Safety; Notice of Applications for Modification of Special Permit

AGENCY: Pipeline and Hazardous Materials Safety Administration (PHMSA), DOT.

ACTION: List of applications for modification of special permits.

SUMMARY: In accordance with the procedures governing the application for, and the processing of, special permits from the Department of Transportation's Hazardous Material Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modification of special permits (e.g., to provide for additional hazardous materials, packaging design changes, additional mode of transportation, etc.) are described in footnotes to the application number. Application numbers with the suffix “M” denote a modification request. These applications have been separated from the new application for special permits to facilitate processing.

DATES: Comments must be received on or before August 26, 2009.

Address Comments to: Record Center, Pipeline and Hazardous Materials, Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington, DC or at http://regulations.gov.

This notice of receipt of applications for modification of special permit is published in accordance with Part 107 of the Federal hazardous materials transportation law (49 U.S.C. 5117(b); 49 CFR 1.53(b)).

Issued in Washington, DC, on August 6, 2009.
Delmer F. Billings,
Director, Office of Hazardous Materials, Special Permits and Approvals.

Application No. | Docket No. | Applicant | Regulation(s) affected | Nature of special permit thereof
MODIFICATION SPECIAL PERMITS
11458-M |  | Plaze Incorporated, St. Clair, MO | 49 CFR Part 107; 172.203(a); 173.150(b); 173.152(b); 173.154(b); 173.155(b); 173.306(a) and (h) | To modify the special permit to authorize another method of packaging the aerosol cans.
11489-M |  | TRW Washington, MI | 49 CFR 172.320; 173.56(b) | To modify the special permit authorize an additional Division 1.4C explosives articles.
12046-M |  | University of Colorado, Denver (Former Grantee; UDC) Aurora, CO | 49 CFR 171 to 178 | To modify the special permit to extend the authorization of transportation in commerce of various hazardous materials to locations out of the forty miles radius of UDC's Aurora Campus.
12629-M |  | TEA Technologies, Inc., Amarillo, TX | 49 CFR 180.205 | To modify the special permit to authorize an additional cylinder.
13249-M |  | Creative Engineers, Inc. York, PA | 49 CFR 173.211; 180.205 | To modify the special permit to authorize an additional cylinder.
14157-M |  | Worthington Cylinders of Canada Corporation, Tilbury, Ontario | 49 CFR 173.302a | To modify the special permit to change the type of steel specified; to change the impact test from each lot of 200 or less cylinders to each third lot of 200 or less third lot of 200 or less cylinders and to remove paragraph 178.37(j)(3).
14781-M |  | CCH Equipment Company, Dallas, TX | 49 CFR 173.302a and 173.314 | To reissue the special permit originally issued on an emergency basis to authorize the transportation in commerce of compressed hydrogen in manifolded and framed non-DOT specification seamless steel cylinders originally certified as Specification DOT-107A seamless steel tank car tanks.

[FR Doc. E9-19247 Filed 8-10-09; 8:45 am]

BILLING CODE 4909-60-M